DEPARTMENT OF COMMERCE

Foreign-Trade Zones Board

[B-34-2017]

Foreign-Trade Zone (FTZ) 74—Baltimore, Maryland; Authorization of Production Activity; Mercedes Benz USA, LLC; (Accessorizing Passenger Motor Vehicles); Baltimore, Maryland

On May 8, 2017, the City of Baltimore, Maryland, grantee of FTZ 74, submitted a notification of proposed production activity to the FTZ Board on behalf of Mercedes Benz USA, LLC, within Site 6 of FTZ 74.

The notification was processed in accordance with the regulations of the FTZ Board (15 CFR part 400), including notice in the Federal Register inviting public comment (82 FR 25240, June 1, 2017). On September 5, 2017, the applicant was notified of the FTZ Board's decision that no further review of the activity is warranted at this time. The production activity described in the notification was authorized, subject to the FTZ Act and the FTZ Board's regulations, including Section 400.14, and further subject to a restriction that carpets of man-made fibers would be admitted to the FTZ in privileged foreign status (19 CFR 146.41).

Dated: September 22, 2017.
Andrew McGilvray,
Executive Secretary.

[FR Doc. 2017-20810 Filed 9-27-17; 8:45 am]

BILLING CODE 3510-DS-P